DEPARTMENT OF TRANSPORTATION

Federal Aviation Administration

14 CFR Part 39

[Docket No. FAA-2006-23966; Directorate Identifier 2006-NM-024-AD; Amendment 39-14495; AD 2006-04-13]

RIN 2120-AA64

Airworthiness Directives; Gulfstream Model GIV-X and GV-SP Series Airplanes

AGENCY: Federal Aviation Administration (FAA), Department of Transportation (DOT).

ACTION: Final rule; request for comments.

SUMMARY: The FAA is adopting a new airworthiness directive (AD) for certain Gulfstream Model GIV-X and GV-SP series airplanes. This AD requires revising the Limitations section of the airplane flight manual by incorporating new procedures to follow in the event that the cockpit displays go blank or malfunction. This AD results from a report that all four of the cockpit flight panel display units simultaneously went blank during flight. We are issuing this AD to ensure that the flightcrew is advised of the appropriate procedures to follow in the event that the cockpit displays go blank or malfunction, which could result in a reduction of the flightcrew's situational awareness and possible loss of control of the airplane.

DATES: This AD becomes effective March 13, 2006.

The Director of the Federal Register approved the incorporation by reference of certain publications listed in the AD as of March 13, 2006.

We must receive comments on this AD by April 25, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Gulfstream Aerospace Corporation, Technical Publications Dept., P.O. Box 2206, Savannah, Georgia 31402-2206, for service information identified in this AD.

FOR FURTHER INFORMATION CONTACT: Robert Chupka, Aerospace Engineer, Systems and Equipment Branch, ACE-119A, Atlanta Aircraft Certification Office, FAA, One Crown Center, 1895 Phoenix Boulevard, Suite 450, Atlanta, Georgia 30349; telephone (770) 703-6070; fax (770) 703-6097.

SUPPLEMENTARY INFORMATION:

Discussion

We have received a report indicating that all four of the cockpit flight panel display units simultaneously went blank during flight on a Gulfstream Model GV-SP airplane. The displays did not recover until the flightcrew pulled circuit breakers associated with the displays; subsequently, three of the four displays returned to normal. Initial investigation revealed discrepancies with the reversion logic of the advanced graphic modules. Similar display failures occurred during ground test operations. Such conditions, if not corrected, could result in a reduction of the flightcrew's situational awareness and possible loss of control of the airplane.

Relevant Service Information

Gulfstream has issued revisions to the Limitations section of Gulfstream G350, G450, G500, and G550 airplane flight manuals (AFMs), as listed in the table below:

Gulfstream AFM Revisions
Affected airplane models | AFM | Revision level | Revision date
Model GIV-X | Gulfstream G350, GAC-AC-G350-OPS-0001 | 6 | January 24, 2006.
Model GIV-X | Gulfstream G450, GAC-AC-G450-OPS-0001 | 7 | January 24, 2006.
Model GV-SP | Gulfstream G500, GAC-AC-G500-OPS-0001 | 13 | January 24, 2006.
Model GV-SP | Gulfstream G550, GAC-AC-G550-OPS-0001 | 15 | January 24, 2006.

The revisions describe new procedures to follow in the event that all four cockpit flight panel display units simultaneously go blank or malfunction. The procedures include identifying the malfunctioning components and taking appropriate corrective action to return certain displays to a functional condition. The procedures also include weather minimums designed to mitigate the effects of display blanking events during takeoff or landing.

FAA's Determination and Requirements of This AD

The unsafe condition described previously is likely to exist or develop on other airplanes of the same type design. For this reason, we are issuing this AD to ensure that the flightcrew is advised of appropriate procedures to follow in the event that the cockpit displays go blank or malfunction, which could result in a reduction of the flightcrew's situational awareness and possible loss of control of the airplane. This AD requires revising the AFM to include the revisions described previously.

Interim Action

We consider this AD interim action. The manufacturer is currently developing a software modification that will address the unsafe condition identified in this AD. Once this modification is developed, approved, and available, we may consider additional rulemaking.

FAA's Determination of the Effective Date

Since an unsafe condition exists that requires the immediate adoption of this AD, we have found that notice and opportunity for public comment before issuing this AD are impracticable, and that good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2006-23966; Directorate Identifier 2006-NM-024-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Dockets

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-04-13 Gulfstream Aerospace Corporation: Amendment 39-14495. Docket No. FAA-2006-23966; Directorate Identifier 2006-NM-024-AD.

Effective Date

(a) This AD becomes effective March 13, 2006.

Affected ADs

(b) None.

Applicability

(c) This AD applies to Gulfstream Model GIV-X series airplanes, certificated in any category; serial numbers 4001 and subsequent; and Gulfstream Model GV-SP series airplanes, certificated in any category; serial numbers 5001 and subsequent; on which Gulfstream Modification ASC-904 or production equivalent has been incorporated.

Unsafe Condition

(d) This AD results from a report that all four of the cockpit flight panel display units simultaneously went blank during flight. We are issuing this AD to ensure that the flightcrew is advised of the appropriate procedures to follow in the event that the cockpit displays go blank or malfunction, which could result in a reduction of the flightcrew's situational awareness and possible loss of control of the airplane.

Compliance

(e) You are responsible for having the actions required by this AD performed within the compliance times specified, unless the actions have already been done.

Airplane Flight Manual (AFM) Revision

(f) Within 10 days after the effective date of this AD, revise the Limitations section of the Gulfstream G350, G450, G500, and G550 AFMs to include the information in the applicable revision listed in Table 1 of this AD. Thereafter, operate the airplane according to the limitations and procedures in the applicable revision. Any further revisions to the AFM must contain the identical procedures in the Limitations section of the AFM revisions as required by this AD.

Table 1.—Gulfstream AFM Revisions
Affected airplane models | Applicable Gulfstream AFM
Model GIV-X | GAC-AC-G350-OPS-0001 as specified in Revision 6, dated January 24, 2006.
Model GIV-X | GAC-AC-G450-OPS-0001, as specified in Revision 7, dated January 24, 2006.
Model GV-SP | GAC-AC-G500-OPS-0001, as specified in Revision 13, dated January 24, 2006.
Model GV-SP | GAC-AC-G550-OPS-0001, as specified in Revision 15, dated January 24, 2006.

Note 1: This may be accomplished by inserting a copy of the applicable Gulfstream Revisions listed in Table 1 of this AD into the applicable AFM.

Alternative Methods of Compliance (AMOCs)

(g)(1) The Manager, Atlanta Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(h) You must use the documents listed in Table 2 of this AD, as applicable, to perform the actions that are required by this AD, unless the AD specifies otherwise. The Director of the Federal Register approved the incorporation by reference of these documents in accordance with 5 U.S.C. 552(a) and 1 CFR part 51. Contact Gulfstream Aerospace Corporation, Technical Publications Dept., P.O. Box 2206, Savannah, Georgia 31402-2206, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 2.—Material Incorporated by Reference
Gulfstream service information | List of effective pages | Revision level | Date
Gulfstream G350 Airplane Flight Manual, GAC-AC-G350-OPS-0001 | Pages A-C Pages E, G-J Pages D, F | Revision 6 Revision 3 Revision 5 | January 24, 2006. September 23, 2005. January 6, 2006.
Gulfstream G450 Airplane Flight Manual, GAC-AC-G450-OPS-0001 | Pages A-C Pages D, F Pages E, G-J | Revision 7 Revision 6 Revision 4 | January 24, 2006. January 6, 2006. September 21, 2005.
Gulfstream G500 Airplane Flight Manual, GAC-AC-G500-OPS-0001 | Pages A-C Pages D, F Pages E, G, H | Revision 13 Revision 11 Revision 9 | January 24, 2006. January 6, 2006. September 23, 2005.
Gulfstream G550 Airplane Flight Manual, GAC-AC-G550-OPS-0001 | Pages A-C Pages E, G-J Pages D, F | Revision 15 Revision 11 Revision 13 | January 24, 2006. September 9, 2005. January 6, 2006.

Issued in Renton, Washington, on February 14, 2006.
Michael Zielinski,
Acting Manager, Transport Airplane Directorate, Aircraft Certification Service.

[FR Doc. 06-1595 Filed 2-23-06; 8:45 am]

BILLING CODE 4910-13-P